NATIONAL SCIENCE FOUNDATION

Advisory Committee for Social, Behavioral and Economic Sciences; Notice of Meeting

In accordance with the Federal Advisory Committee Act (Pub. L. 92- 463, as amended), the National Science Foundation (NSF) announces the following meeting:

Name and Committee Code: Advisory Committee for Social, Behavioral and Economic Sciences (#1171) (Virtual).

Date and Time: December 3-4, 2020; 12:00 p.m.-5:00 p.m. (EST).

Place: NSF, 2415 Eisenhower Avenue, Alexandria, VA 22314. Virtual AC Meeting via Zoom. Advance registration is required: https://nsf.zoomgov.com/webinar/register/WN_-BGhgnjcQjugMpfk5X_yMQ.

Type of Meeting: Open.

Contact Person: Dr. Deborah Olster, Office of the Assistant Director, Directorate for Social, Behavioral and Economic Sciences; National Science Foundation, 2415 Eisenhower Avenue, Alexandria, VA 22314; Telephone: (703) 292-8700.

Summary of Minutes: Will be available on SBE advisory committee website at: https://www.nsf.gov/sbe/advisory.jsp.

Purpose of Meeting: To provide advice and recommendations to the National Science Foundation on major goals and policies pertaining to Social, Behavioral and Economic Sciences Directorate (SBE) programs and activities.

Agenda Items

• Welcome, Introductions, Approval of Previous Advisory Committee Meeting Summary

• Social, Behavioral, and Economic Sciences Directorate (SBE) Update

• COVID-19-related Research in the Social, Behavioral, and Economic Sciences

• Meeting with NSF Leadership

• Collaborations between SBE and the Directorate for Computer & Information Science & Engineering

• SBE Office of Multidisciplinary Activities Committee of Visitors Report

• Partnerships

• Federal Data Strategy

• Committee on Equal Opportunities in Science and Engineering Update

• Advisory Committee on Environmental Research and Education Update

• New SBE Funding Opportunities

• Wrap-up, Assignments, Closing Remarks

Dated: November 3, 2020.
Crystal Robinson,
Committee Management Officer.

[FR Doc. 2020-24678 Filed 11-5-20; 8:45 am]

BILLING CODE 7555-01-P